DEPARTMENT OF ENERGY

Federal Energy Regulatory Commission

[Project Nos. 12626-002; 12717-002]

Northern Illinois Hydropower, LLC; Notice of Availability of Environmental Assessment

In accordance with the National Environmental Policy Act of 1969 and the Federal Energy Regulatory Commission (Commission) regulations, 18 CFR part 380 (Order No. 486, 52 FR 47897), the Office of Energy Projects has reviewed the applications for original licenses for the Brandon Road Hydroelectric Project (FERC Project No. 12717-002) and the Dresden Island Hydroelectric Project (FERC Project No. 12626-002). The Brandon Road Hydroelectric Project is proposed to be located on the Des Plaines River, near the City of Joliet, Will County, Illinois, at the U.S. Army Corps of Engineers' (Corps) Brandon Road Lock and Dam. The Dresden Island Hydroelectric Project is proposed to be located on the Illinois River, in the Town of Morris, Grundy County, Illinois, at the Corps' Dresden Island Lock and Dam.

Staff prepared a multi-project environmental assessment (EA), which analyzes the potential environmental effects of licensing the projects, and concludes that licensing the projects, with appropriate environmental protection measures, would not constitute a major federal action that would significantly affect the quality of the human environment.

A copy of the EA is available for review at the Commission in the Public Reference Room or may be viewed on the Commission's Web site at http://www.ferc.gov using the “eLibrary” link. Enter the docket, excluding the last three digits for each docket number, in the docket number field to access the document. For assistance, contact FERC Online Support at FERCOnlineSupport@ferc.gov; toll-free at 1-866-208-3676, or for TTY, 202-502-8659.

You may also register online at http://www.ferc.gov/docs-filing/esubscription.asp to be notified via e-mail of new filings and issuances related to these or other pending projects. For assistance, contact FERC Online Support.

Any comments should be filed within 30 days from the date of this notice. Comments may be filed electronically via the Internet. See 18 CFR 385.2001(a)(1)(iii) and the instructions on the Commission's Web site http://www.ferc.gov/doc-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426. Please affix Brandon Road Hydroelectric Project, P-12717-002 and Dresden Island Hydroelectric Project, P-12626-002 to all comments.

For further information, contact Janet Hutzel at (202) 502-8675 or by e-mail at janet.hutzel@ferc.gov.

Dated: July 5, 2011.
Kimberly D. Bose,
Secretary.

[FR Doc. 2011-17289 Filed 7-8-11; 8:45 am]

BILLING CODE 6717-01-P